DEPARTMENT OF ENERGY

Federal Energy Regulatory Commission

[Docket No. RP96-272-023]

Northern Natural Gas Company; Notice of Proposed Changes in F.E.R.C. Gas Tariff

January 3, 2001.

Take notice that Northern Natural Gas Company (Northern) on December 22, 2000, tendered for filing to become part of Northern's F.E.R.C. Gas Tariff, Substitute Twelfth Revised Sheet No. 66 proposed to be effective December 12, 2000 and Thirteenth Revised Sheet No. 66 and Fourth Revised Sheet No. 66A proposed to become effective on December 22, 2000:

Fifth Revised Volume No. 1

Substitute Twelfth Revised Sheet No. 66

Thirteenth Revised Sheet No. 66

Fourth Revised Sheet No. 66

The above sheets are being filed to implement specific negotiated rate transactions with Oneok Energy Marketing and Trading Company, Texaco Natural Gas, Inc. and OGE Energy Resources, Inc. in accordance with the Commission's Policy Statement on Alternatives to Traditional Cost-of-Service Ratemaking for Natural Gas Pipelines. In addition, Substitute Twelfth Revised Sheet No. 66 is being filed to reflect changes made to Footnote 7 on Substitute Eleventh Revised Sheet No. 66 filed on December 15, 2000.

Northern further states that copies of the fling have been mailed to each of its customers and interested State Commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-521 Filed 1-8-01; 8:45 am]

BILLING CODE 6717-01-M